POSTAL SERVICE

39 CFR Part 111

New Mailing Standards for Domestic Mailing Services Products

AGENCY: Postal Service™.

ACTION: Proposed Rule.

SUMMARY: In October 2016, the Postal Service filed a notice of mailing services price adjustments with the Postal Regulatory Commission (PRC), effective January 22, 2017. This proposed rule contains the revisions to Mailing Standards of the United States Postal Service, Domestic Mail Manual (DMM®) that we would adopt to implement the changes coincident with the price adjustments.

DATES: We must receive comments on or before November 16, 2016.

ADDRESSES: Mail or deliver written comments to the manager, Product Classification, U.S. Postal Service®, 475 L'Enfant Plaza SW., Room 4446, Washington DC 20260-5015. You may inspect and photocopy all written comments at USPS® Headquarters Library, 475 L'Enfant Plaza SW., 11th Floor N, Washington, DC by appointment only between the hours of 9 a.m. and 4 p.m., Monday through Friday, by calling 1-202-268-2906 in advance. Email comments, containing the name and address of the commenter, may be sent to: ProductClassification@usps.gov, with a subject line of “January 2017 Domestic Mailing Services Proposal.” Faxed comments are not accepted.

FOR FURTHER INFORMATION CONTACT: Audrey Meloni at (856) 933-4360 or Lizbeth Dobbins at (202) 268-3789.

SUPPLEMENTARY INFORMATION: Proposed prices will be available under Docket Number(s) R2017-1 on the Postal Regulatory Commission's Web site at www.prc.gov.

The Postal Service's proposed rule includes: Changes to prices, several mail classification updates, mailpiece marking changes, modifications to mailpiece weights and mail preparation categories, multiple product simplification efforts, a few minor revisions to the DMM to condense language and eliminate redundancy, a change to the redemption period of a money order claim from two years to one year, the addition of Official Mail Accounting System (OMAS) stamp shipment fee language, and updates to Enterprise Post Office Box Online (ePOBOL) process that changes payment periods for online Post Office Box activity.

Flats Sequencing System (FSS)—Overview of Changes

As background, the Postal Service required bundle and pallet preparation of flat-size Standard Mail®, Periodicals, and Bound Printed Matter mailpieces for delivery within ZIP Codes™ served by FSS processing in the December 18, 2013 Federal Register final rule [78 FR 76533-76548] which was incorporated into the DMM on January 26, 2014. Subsequently, on May 31, 2015, the Postal Service introduced FSS-specific price structures for flat-sized Bound Printer Matter, Standard Mail, and Periodicals mailpieces, pursuant to PRC Order no. 2472, issued on May 7, 2015. This current Federal Register proposal if adopted, removes all FSS-specific pricing structures from Periodicals, Standard Mail and Bound Printed Matter but leaves mail preparation requirements intact with a few updated requirements. One change, for example, requires mailers to add necessitate optional endorsement lines (OEL) on each FSS scheme mailpiece.

Again, FSS preparation rules remain intact for Standard Mail, Periodicals and Bound Printed Matter for applicable FSS zones as defined by Labeling List L006. The required carrier route separation is new for Standard Mail High Density and High Density Plus and for Saturation bundles. As a reminder, all presorted and carrier route Bound Printed Matter (BPM) , and Periodicals flats meeting the standards in 201.6.2 must be sorted to FSS schemes, properly bundled and placed on or in pallets, trays, sacks or approved containers, for FSS scheme ZIP Code combinations within the same facility. Mailings (excluding saturation mailings of Standard Mail) with non presorted BPM flats may be included in FSS preparation, but will not be eligible for presorted, or carrier route prices.

To reiterate, all mailpieces in a 5-digit scheme FSS bundle must be identified with an optional endorsement line (OEL), as described in DMM 708.7.0. Mailpieces entered under a combined mailing of Standard Mail and Periodicals flats (DMM 705.15.0) still include class and price markings, applicable to the price paid, in addition to the OEL.

Periodicals, Standard Mail, and Bound Printed Matter flats properly included in a FSS scheme pool qualify for the piece price applied prior to inclusion in the FSS scheme pool with the following exceptions for Standard Mail: (1) A carrier route mailpiece in a FSS bundle on a FSS scheme pallet will receive the Basic CR-Bundles/Pallet price and (2) a carrier route mailpiece in a FSS bundle on a FSS facility pallet will receive the Basic CR price. Additional information on each mail class affected is under the Bound Printed Matter, Periodicals, and Standard Mail sections in this proposal.

First-Class Mail

Combine First-Class Mail Commercial Automation Automated Area Distribution Center (AADC) and 3-Digit Sortations for Letters and Cards Into One Combined Sortation Level Known as AADC

Currently, there are four presort levels for First-Class Mail Commercial Automation Letters and Cards: Mixed AADC Automation Letters (Cards), AADC Automation Letters (Cards), 3-Digit Automation Letters (Cards), and 5-Digit Automation Letters (Cards). To help simplify the pricing structure, the Postal Service implemented the same price for AADC Automation Letters and 3-Digit Automations Letters in Docket No. R2012-3. In Docket No. R2013-1, the similar change was made for Automation Cards. The Postal Service is now proposing to combine AADC and 3-Digit presort levels into one sortation. The new sortation name will be AADC. The existing labeling List 801 will drive the FCM AADC separations and the L003 list will become obsoleted. Origin entry separations, based on labeling List 002, will be modified to reflect origin entry AADC separations.

Increase the Weight Standard for First-Class Mail (FCM) Commercial Automation and Machinable Letters and Cards From uP to 3.3 Ounces to Up to 3.5 Ounces

Currently, the “up to” weight standard for FCM Commercial Machinable Letters is 3.3 ounces. This lower weight break of up to 3.3 ounces is being increased due to mail processing improvements. Since machinable letters must follow the standards for Automation Letters (except for IMb), the same weight maximum should apply. Based on this, the Postal Service is proposing to increase the weight maximum from 3.3 ounces to 3.5 ounces. This change does not apply to the maximum weight of Booklets which are capped at 3.0 ounces.

One Price for Up to 3.5 Ounces for First-Class Mail (FCM) Commercial Automation Letters

Currently, the same price applies for one and two ounce pieces for each individual mail sortation level for First-Class Mail (FCM) Commercial Automation Letters. The Postal Service is proposing one price for up to 3.5 ounces for each individual mail sortation level for FCM Commercial Automation Letters. The weight increase will encourage mailers to insert additional information or sales offers, and will increase the value of the FCM brand. This proposal will also apply to mixed-weight FCM Residual mailings up to 3.5 ounces. The current preparation requirements for non-blended trays, such as one ounce, up to two ounces, and now extending to 3.5 ounces will continue if this proposal is adopted. This change does not include FCM Single-Piece Letters (non-Residual) or FCM Flats.

Simplification and Renaming FCM Alternate Postage to FCM Share Mail

The Postal Service is proposing to rename Alternate Postage to Share Mail. This Federal Register notice reiterates the content of a previous announcement of this proposal published in the June 9, 2016 Postal Bulletin issue #22443. Share Mail allows Postal Service customers to distribute single-piece First-Class Mail letters or cards to consumers, who may in turn mail those pieces to any domestic address, without having to affix postage. Share Mail pieces are permitted to weigh up to one ounce each. Payment is collected electronically from the customer's Postage Due and Centralized Accounting Postage System (CAPS) Account. Invoicing is performed manually, by the Postal Service's Share Mail Program Office in Marketing.

Share Mail has proven to be a viable option for senders to share information with numerous recipients. To continue the Postal Service's efforts to simplify its product line, the Share Mail payment tiers will be collapsed into one, and upfront postage payment requirements will be eliminated. Unique Intelligent Mail barcodes are no longer required nor is a signed Marketing Agreement. Picture Permit will no longer be available in order to help expedite its approval process. A customer who wishes to participate must submit a request to the Share Mail Program Office along with production pieces to ensure readability for postal processing. Share Mail relies on Intelligent Mail barcode (IMb) technology and scan data collected as the mailpiece travels through the mailstream to determine piece counts, so readability is paramount.

Periodicals

Eliminate Flats Sequencing System (FSS) Pricing

The Postal Service is proposing to eliminate the FSS-specific price structures for Periodicals Outside-County. FSS preparation will still be required and all FSS marking requirements will remain as is. Outside-County Periodicals flats properly included in a FSS scheme pool, qualify for the price applied prior to the FSS scheme pool. If a FSS scheme pallet is drop shipped to a DFSS facility, the pallet will receive Carrier Route pallet pricing. If a FSS facility pallet is drop shipped to a DFSS facility the pallet will receive DSCF pallet pricing. Qualifying FSS scheme pieces entered at a DFSS facility receive DSCF pound pricing. FSS scheme bundles on an FSS scheme pallet will receive carrier route bundle prices. FSS scheme bundles on an FSS facility pallet will receive 3-digit/SCF bundle pricing. FSS scheme and facility sack/trays or other authorized container will receive 3-digit/SCF sack/tray prices.

Standard Mail

Renaming Standard Mail to “USPS Marketing Mail”

The Postal Service is proposing to rename Standard Mail to “USPS Marketing Mail”. This name change will better communicate to our customers the message that Standard Mail fits into their marketing mix.

The 2015 Household Diary Study shows that customers primarily use Standard Mail to send advertisements. According to the study, taken in Fiscal Year 2015, 84.1 percent of Standard Mail volume ¹ received by households, contained advertising. Standard Mail is a primary tool for customers to market a product, service, or an organization. Renaming Standard Mail to “USPS Marketing Mail” will make it easier for customers to understand what Standard Mail is and how it can be used. The name change further supports the customer engagement message of direct mail, reinforces Postal Service initiatives to promote combining physical and digital advertising formats as part of the omni-channel outreach. This outreach is encouraged by the USPS 2017 Mail Promotions, and enhances the value of the Postal Service's brand. To help smooth the transition for this change, the Postal Service will modify postage statements and the DMM for January 2017 and implement other changes to postal forms or documents during the normal update cycles. The initial implementation date for mailers to adopt the new USPS Marketing Mail abbreviations (such as MKT in lieu of for STD) is July 1, 2017. Abbreviations and examples of permit imprints will be available in a future Postal Bulletin.

¹ John Mazzone & Samie Rehman, The Household Diary Study: Mail Use & Attitudes in FY 2015, United States Postal Service (May 2016). Available at: http://www.prc.gov/docs/96/96795/Household%20Diary%202015_2.pdf.

¹ The Household Diary Study, Table A3-1.

Bound Printed Matter

Eliminate Flat Sequencing System (FSS) Pricing

The Postal Service is proposing to eliminate FSS-specific price structures for Bound Printed Matter Flats. FSS preparation will still be required and all FSS marking requirements will remain as is. Bound Printed Matter flat pieces included in an FSS scheme bundle pool qualify for zone and entry piece pricing and pound pricing. If an FSS container is drop shipped to a DFSS facility, those pieces will receive DSCF pricing.

Combine AADC and 3 Digit Automation Sorts for Letters Into One Sort level

Currently there are four presort levels for Standard Mail and Standard Mail Nonprofit Automation Letters: Mixed AADC Automation Letters, AADC Automation Letters, 3-Digit Automation Letters, and 5-Digit Automation Letters. To help simplify the pricing structure, the Postal Service implemented the same price for AADC Automation Letters and 3-Digit Automations Letters in Docket No. R2013-1. The Postal Service is now proposing to combine these two presort levels (AADC and 3-Digit) into one sortation. The new sortation name will be AADC if this proposal is adopted.

Increase the Weight Standard for Standard Mail and Standard Mail Nonprofit Nonautomation Machinable Letters From Up to 3.3 Ounces to Up to 3.5 Ounces

Currently, the “up to” weight standard for Standard Mail and Standard Mail Nonprofit Machinable Letters is 3.3 ounces. This lower weight break of up to 3.3 ounces is no longer needed due to improvements in mail processing equipment. Since machinable letters must follow the standards for Automation Letters (except for the IMb standards), the weight maximum should also follow. Thus the Postal Service is proposing to increase the weight maximum from 3.3 ounces to 3.5 ounces. This change does not include Standard Mail Ride-Along mailpieces which are capped at 3.3 ounces and are inserted into a host Periodicals mailpiece.

It's important for both the Industry and the Postal Service to evaluate the effects of higher weight breaks for First-Class Mail automation letters and cards along with Standard Mail letters. Collaboration and feedback throughout calendar year 2017 will be critical in helping to determine whether higher weights cause processing and/or address quality metrics to be put at risk.

Reduce Simple Sample Tiers

There are currently six volume tiers for Standard Mail Commercial and Nonprofit Simple Samples. Based on the volume thresholds currently used by most customers, the Postal Service is proposing to collapse the existing six tiers into two new tiers: Volumes up to and equal to 200,000 pieces, and volumes greater than 200,000 pieces.

Eliminate Flat Sequencing System (FSS) Pricing

The Postal Service is proposing to eliminate the FSS-specific price structures within Standard Mail and Standard Mail Nonprofit. FSS preparation will still be required and all FSS marking requirements will remain intact. Standard Mail and Standard Mail Nonprofit flats properly included in a FSS scheme pool, qualify for the price applied prior to the FSS scheme pool with the following exceptions: (1) A carrier route mailpiece in an FSS bundle on an FSS scheme pallet will receive the Basic CR-Bundles/Pallet price, and (2) a carrier route mailpiece in a FSS bundle on an FSS facility pallet will receive the Basic CR price. If an FSS pallet is drop shipped to a DFSS facility, those pieces will receive DSCF pricing.

Increase Standard Mail and Standard Mail Nonprofit Flats, Nonautomation Letters, and Nonmachinable Letters Piece Price Weight Break Structure From 3.3 Ounces to 4.0 Ounces

The current piece/pound price structure for Standard Mail and Standard Mail Nonprofit Flats, Nonautomation Letters, and Nonmachinable Letters does not provide a simple, clear view of the actual price of a mailing especially when here are nonidentical-weight pieces when some pieces are between 3.3 and 4 ounces. The Postal Service is proposing to increase the Standard Mail and Standard Mail Nonprofit Flats, and Nonautomation and Nonmachinable Letters piece price weight break structure from 3.3 ounces to 4.0 ounces. Pieces up to 4 ounces will pay the same price and a pound price will apply over 4 ounces. This proposal does not include Nonautomation Machinable Letters.

Extra Services

Collect on Delivery (COD) Redesign

Currently, Collect on Delivery allows for both street delivery and Hold for Pickup (HFPU) options and is available at Retail locations, online, and through commercial channels. Letter Carriers may accept cash, money order or checks for the amount due up to $1,000.00 from the recipient upon delivery. Recipients of COD shipments can currently pick up their items at USPS Retail locations or wait for a USPS Letter Carrier to deliver them to a street address. Carriers may have to redeliver COD pieces at the street address if the customer is not home or able to pay on the first attempt.

The Postal Service is proposing to make Hold For Pickup the only delivery method for Collect on Delivery items. COD items would be addressed to the delivery address of the recipient's Post Office. The recipient would receive a notification message to pick-up the item at the Post Office. A reminder email, text or phone call message will be sent for Priority Mail Express shipments on day 3 and for all other packages on day 5. After 5 days, Priority Mail Express shipments will be returned to sender. After 15 days all other shipments returned to the sender. As a result of these changes the sender will have their items back in less time than under the current delivery attempt processes. Holding all COD shipments for pick-up has the potential to reduce delivery costs for the Postal Service, as well as ensure prompt payment for the sender.

Returns Simplification

Eliminate BRM Parcels Permit & Account Maintenance Fee

Currently, Business Reply Mail (BRM) consists of letters, flats, and parcels. Occasionally BRM customers choose to use Business Reply Mail for return parcels because they possessed a BRM permit for inbound correspondence. The Postal Service is proposing to waive the annual permit fee for those current customers using BRM exclusively for return parcels. This will align BRM parcels with other returns products. BRM permit fees for letters and flats, and for weight-averaged BRM letters, flats & parcels, will remain.

Eliminate QBRM Permit Fees

To further support simplification, the Postal Service is also proposing to eliminate the annual permit fees for Business Reply Customers who use only QBRM Basic and High Volume Qualified for letters and cards. All other fees and postage pricing remain intact.

Implement a Simplified Approach for Shipping Services

The Postal Service is proposing to eliminate the fees for certain outbound and return permits used for parcel shipments including associated annual account maintenance fees. This proposal streamlines the application and returns process and also eliminates the need to pay permit application fees for additional entry points. Shipping Products included under this umbrella are outbound shipments of Priority Mail Express, Priority Mail, First-Class Package Service, Parcel Select (including Parcel Select Lightweight), Bound Printed Matter, Media Mail, Library Mail and for return shipments of MRS, Parcel Return Service and BRM (parcels only).

Address Correction Service

Adjust Standard Mail Forwarding Fee to 2 Decimal Places

Currently, Standard Mail Letters and Flats mailers that use this service are charged the Forwarding Fee via Address Correction Service (ACS) billing which is managed by the ACS Department of Address Management Systems in Memphis, TN. The ACS data file, Shipping Notice data file, and the Invoice data file have an implied decimal position that is conducive to the 2-decimal places for address correction services. When mailers use these files to track their ACS fees and costs, they must recognize that the Forwarded Fee product codes have an implied 3-decimal place price and must manipulate the data files provided to them through ACS so that the decimal place differences are recognized in all of the data files provided via ACS. This proposal would adjust the Standard Mail Forwarding Fee to 2-decimal point places to allow mailers to track their ACS fees and costs without making adjustments for the Forwarding Fees.

Money Order Redemption Period

To help simplify Postal accounting procedures and comport with Banking Industry Standards, and other companies' comparable money order offerings, the Postal Service proposes to change the time limit for claims for improper payment to a limit of one year. This language will be updated on the reverse side of the domestic and international money order form so the purchaser is aware of the time limit.

Enterprise PO Boxes Online (ePOBOL) Payment Process Change

The U.S. Postal Service continues to seek opportunities to streamline mailers' experience when using our products and services. For example, we plan to allow Enterprise PO Boxes Online customers to modify their current payment period to align their multiple PO Boxes, Caller Service, and Reserve payments to one due date per year, when using an Enterprise Payment Account (EPA).

Eligible customers will be allowed to pay pro-rated fees, on a one time basis to align all payments to a selected annual renewal date in the future. This method is optional and will be available for all of an eligible customer's PO Boxes and Caller Service numbers. When the true-up date is reached they will continue to pay for the 12 month term as committed when first enrolled in the Enterprise Payment Account.

OMAS Stamp Delivery Fee

Federal Agencies Ordering Stamps From the Stamp Fulfillment Center

Federal agencies have the option today to order stamps from the USPS Stamp Fulfillment Services in Kansas City and to pay for the stamps through their Official Mail Accounting System (OMAS) accounts.

It has been a long-standing practice to charge customers other than federal agencies a nominal handling fee for all purchases ordered through Stamp Fulfillment Services. Beginning January 1, 2017, these fees will apply to federal agencies using OMAS.

The handling fee schedule can be found in section 1560 of the Mail Classification Schedule, under References, on the Postal Regulatory Commission Web site at http://www.prc.gov/.

Resources

The Postal Service provides additional resources to assist customers with this price change for competitive products. These tools include price lists, downloadable price files, and Federal Register Notices, which may be found on the Postal Explorer® Web site at pe.usps.com.

List of Subjects in 39 CFR Part 111

Administrative practice and procedure, Incorporation by reference, Postal Service.

Although we are exempt from the notice and comment requirements of the Administrative Procedure Act (5 U.S.C. 553(b), (c)) regarding proposed rulemaking by 39 U.S.C. 410(a), we invite public comments on the following proposed revisions to Mailing Standards of the United States Postal Service, Domestic Mail Manual (DMM), incorporated by reference in the Code of Federal Regulations. See 39 CFR 111.1. Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

Mailing Standards of the United States Postal Service, Domestic Mail Manual (DMM)

* * * * *

100 Retail Letters, Cards, Flats, and Parcels

* * * * *

110 Priority Mail Express

* * * * *

115 Priority Mail Express—Mail Preparation

* * * * *

2.0 Priority Mail Express 1-Day and 2-Day

* * * * *

2.3 Signature Required

[Revise the last sentence of 2.3 to read as follows:]

* * * A mailer must select signature service for Priority Mail Express COD HFPU, or Priority Mail Express with additional insurance.

* * * * *

200 Commercial Letters, Cards, Flats, and Parcels

201 Physical Standards

* * * * *

4.0 Physical Standards for Flats

* * * * *

4.7 Flat-Size Pieces Not Eligible for Flat-Size Prices

* * * * *

Exhibit 4.7b Pricing for Flats Exceeding Maximum Deflection (see 4.6)

[Revise Exhibit 4.7b as follows:]

* * * * * * *
PERIODICALS OUTSIDE COUNTY
Piece price eligibility as presented | Piece price eligibility with failed deflection.
[Delete Machinable barcoded FSS] | [Delete Nonmachinable barcoded 5-digit flat.
* * * * * * *
[Delete Machinable nonbarcoded FSS] | [Delete Nonmachinable nonbarcoded 5-digit flat].
* * * * * * *
STANDARD MAIL
Eligibility as presented | Eligibility with failed deflection.
[Delete Automation FSS Sch Pallet, Automation FSS Other, Automation FSS Sch Cont., and Automation FSS Facility Cont.] | [Delete Nonautomation FSS Sch Pallet, Nonautomation FSS Other, Nonautomation FSS Sch Cont., and Nonautomation FSS Facility Cont.].
* * * * * * *
BOUND PRINTED MATTER
Eligibility as presented | Eligibility with failed deflection.
* * * * * * *
[Delete Barcoded/nonbarcoded FSS Sch flat] | [Delete Presorted parcel].

* * * * *

207 Periodicals

* * * * *

12.0 Nonbarcoded (Presorted) Eligibility

* * * * *

12.3 Prices—In-County

* * * * *

12.3.2 Three-Digit Prices

3-digit prices apply to:

* * *

[Add new item c as follows:]

c. Qualifying flats sorted to a FSS scheme under 705.14.0.

* * * * *

13.0 Carrier Route Eligibility

* * * * *

13.2 Sorting

13.2.1 Basic Standards

* * * * *

b. Nonletter-size mailings. Carrier route prices apply to carrier route bundles that are sorted in one of the following ways:

[Revise item 13.2.1b1 to read as follows:]

1. Bundles sorted onto pallets prepared under 705.8.0, 705.10.0, 705.12.0, 705.13.0 or 705.14.0, as appropriate.

* * * * *

14.0 Barcoded (Automation) Eligibility

* * * * *

14.4 Prices—In-County

* * * * *

14.4.2 Three-Digit Prices

3-digit automation prices apply to:

* * *

[Add new item c as follows:]

c. Qualifying flats sorted to a FSS scheme under 705.14.0.

* * * * *

17.0 Documentation

* * * * *

17.4.0 Detailed Zone Listing for Periodicals

17.4.1 Basic Standards

[Revise the first sentence of 17.4.1 to read as follows:]

The publisher must be able to present documentation to support the actual number of copies of each edition of an issue, by entry point, mailed to each zone, at DDU, DSCF, DADC, DFSS (DFSS entered with DSCF prices) and In-County prices. * * *

17.4.2 Format

Report the number of copies mailed to each 3-digit ZIP Code area at zone prices using one of the following formats:

* * * * *

[Revise the first sentence of item b to read as follows.]

b. Report copies by zone (In-County DDU, In-County others, Outside-County DDU, Outside-County DSCF, Outside-County DSCF entered at a DFSS and Outside-County DADC) and by 3-digit ZIP Code, in ascending numeric order, for each zone. * * *

17.4.3 Zone Abbreviations

Use the actual price name or the authorized zone abbreviation in the listings in 17.3 and 17.4.2

Zone abbreviation | Price equivalent
* * * * * * *
[Revise the Price Equivalent for FSS to read as follows.]
FSS | Outside-County, DSCF (mail entered at a DFSS).

* * * * *

18.0 General Mail Preparation

* * * * *

18.5 FSS Preparation

[Revise the text of 18.5 to read as follows.]

Flat sized Periodicals In-County priced mailings, along with a maximum of 5,000 Outside-County pieces for the same issue (see 1.1.4) may be optionally sorted under FSS preparation standards. All other Periodicals flats including Saturation (Non-simplified addressed) and High Density priced flats destinating and qualifying to FSS zones in L006, must be prepared under 705.14.0.

* * * * *

29.0 Destination Entry

* * * * *

29.4 Destination Sectional Center Facility

* * * * *

29.4.2 Price Eligibility

[Revise the text of 29.4.2 to read as follows.]

Determine price eligibility as follows:

a. Pound Prices. Outside-County pieces are eligible for DSCF pound prices when placed on an SCF or more finely presorted container, deposited at the DSCF, DFSS or USPS-designated facility (see also 29.4.2b), and addressed for delivery within the DSCF's or DFSS service area. Nonletter-size pieces are also eligible when the mailer deposits 5-digit bundles at the destination delivery unit (DDU) (the facility where the carrier cases mail for delivery to the addresses on the pieces) and the 5-digit bundles are in or on the following types of containers:

1. A merged 5-digit scheme or merged 5-digit sack.

2. A merged 5-digit scheme, merged 5-digit, or 5-digit scheme pallet.

b. Container Prices. Mailers may claim the DSCF container price for SCF or FSS and more finely presorted containers that are entered at and destined within the service area of the SCF or FSS at which the container is deposited.

29.5 Destination Flat Sequencing System (DFSS) Facility Entry

* * * * *

29.5.2 Eligibility

[Revise the first sentence of 29.5.2 to read as follows.]

DSCF prices apply to eligible FSS pieces deposited at a USPS-designated FSS processing facility and correctly placed in a flat tray, sack, alternate approved container or on a pallet, labeled to a FSS scheme processed by that facility, under labeling list L006, column B or C.

* * * * *

210 Priority Mail Express

* * * * *

215 Priority Mail Express—Mail Preparation

* * * * *

2.0 Priority Mail Express 1-Day and 2-Day

* * * * *

2.3 Signature Required

[Add the following text to 2.3 as the last sentence.]

* * * A mailer must select signature service for Priority Mail Express COD HFPU, or Priority Mail Express with additional insurance.

* * * * *

230 First-Class Mail

233 Prices and Eligibility

* * * * *

5.0 Additional Eligibility Standards for Automation First-Class Mail

* * * * *

5.4 Price Application—Automation Cards and Letters

Automation prices apply to each piece that is sorted under 235.6.0 into the corresponding qualifying groups: [Revise the text in items a, b, and c to read as follows.]

a. Groups of 150 or more pieces in 5-digit/scheme trays qualify for the 5-digit price. Preparation to qualify for the 5-digit price is optional. Pieces placed in full AADC trays in lieu of 5-digit/scheme overflow trays under 235.6.5 are eligible for the 5-digit prices.

b. Groups of 150 or more pieces in AADC trays qualify for the AADC price.

c. Groups of fewer than 150 pieces in AADC origin and pieces placed in mixed AADC trays in lieu of AADC overflow trays under 235.6.5 are eligible for the AADC prices.

* * * * *

235 Mail Preparation

1.0 General Definition of Terms

* * * * *

1.3 Terms for Presort Levels

1.3.1 Letters and Cards

Terms used for presort levels are defined as follows:

[Delete items c through f and renumber items g through j as new c through f]

* * * * *

6.0 Preparing Automation Letters

* * * * *

6.2 Mailings

The requirements for mailings are as follows:

* * * * *

[Revise item b to read as follows.]

b. First-Class Mail. A single automation price First-Class Mail mailing may include pieces prepared at 5-digit, AADC, and mixed AADC prices.

* * * * *

6.5 Tray Preparation

[Revise the introductory text of 6.5 to read as follows.]

Instead of preparing overflow trays with fewer than 150 pieces, mailers may include these pieces in an existing qualified tray of at least 150 or more pieces at the next tray level. (For example, if a mailer has 30 overflow 5-digit pieces for ZIP Code 20260, these pieces may be added to an existing qualified AADC tray for the correct destination (ZIP Code prefix 202) and the overflow 5-digit pieces will still qualify for the 5-digit price.). Mailers must note these trays on standardized documentation (see 708.1.2). Pieces that are placed in the next tray level must be grouped by destination and placed in the front or back of that tray. Mailers may use this option selectively for AADC ZIP Codes. This option does not apply to origin/entry trays. Preparation sequence, tray size, and Line 1 labeling:

* * * * *

[Delete item b and renumber items c and d as b and c.]

[Revise renumbered item b to read as follows.]

b. AADC: Optional, but required for AADC price (150-piece minimum except no miminum for origin entry AADC); overflow allowed; group pieces by 3-digit (or 3-digit scheme) ZIP Code. For Line 1, use L801, Column B.

6.6 Tray Line 2

Line 2: “FCM LTR” and:

* * * * *

[Delete items c and d and renumber items e and f as c and d.]

* * * * *

240 USPS Marketing Mail

243 Prices and Eligibility

* * * * *

4.0 Price Eligibility for USPS Marketing Mail

* * * * *

4.2 Minimum Per Piece Prices

The minimum per piece prices (the minimum postage that must be paid for each piece) apply as follows:

* * * * *

[Revise the second sentence of item c to read as follows.]

c. * * * Except for Customized MarketMail pieces, discounted per piece prices also may be claimed for destination network distribution center (DNDC), destination sectional center facility (DSCF), and destination delivery unit (DDU)) under 246. * * *

4.3 Piece/Pound Prices

[Revise the last sentence of 4.3 to read as follows.]

* * * Discounted per pound prices also may be claimed for destination entry mailings-DNDC, DSCF, and DDU under 246.

* * * * *

5.0 Additional Eligibility Standards for Nonautomation USPS Marketing Mail Letters, Flats, and Presorted Standard Mail Parcels

* * * * *

5.6 Nonautomation Price Application—Flats

5.6.1 5-Digit Prices for Flats

The 5-digit price applies to flat-size pieces:

[Add new item d as follows.]

* * * * *

d. In an FSS bundle of 10 or more pieces properly placed in sack of at least 125 pieces or 15 pounds of pieces or on a pallet under 705.14.0.

5.6.2 3-Digit Prices for Flats

* * * * *

[Add new item c as follows.]

c. In an FSS bundle of 10 or more pieces properly placed in sack of at least 125 pieces or 15 pounds of pieces or on a pallet under 705.14.0.

* * * * *

[Delete items 5.6.5 and 5.6.6]

* * * * *

6.0 Additional Eligibility Standards for Enhanced Carrier Route USPS Marketing Mail Letters and Flats

* * * * *

6.3 Basic Price Enhanced Carrier Route Standards

* * * * *

6.3.3 Basic Price Eligibility—Flats

Basic prices apply to each piece in a carrier route bundle of 10 or more pieces that is:

[Revise item a to read as follows.]

a. Palletized under 705.8.0, 705.10.0, 705.12.0, 705.13.0 or 705.14.0 (FSS scheme bundles).

* * * * *

6.5 High Density and High Density Plus (Enhanced Carrier Route) Standards—Flats

* * * * *

6.5.2 High Density and High Density Plus Prices for Flats

High density or high density plus prices apply to each piece meeting the density standards in 6.5.1 or in a carrier route bundle of 10 or more pieces that is:

[Revise item a to read as follows.]

a. Palletized under 705.8.0, 705.10.0, 705.12.0, 705.13.0 or 705.14.0 (FSS scheme bundles).

* * * * *

7.0 Eligibility Standards for Automation USPS Marketing Mail

* * * * *

7.4 Price Application for Automation Letters

Automation prices apply to each piece that is sorted under 245.10.0, into the corresponding qualifying groups:

* * * * *

[Delete item b and renumber item c as item b.]

[Revise renumbered item b to read as follows.]

b. Groups of fewer than 150 pieces in origin/entry AADC trays qualify for the AADC price. Pieces placed in mixed AADC trays under 245.7.5 in lieu of AADC overflow trays also are eligible for AADC prices (see 245.7.5).

* * * * *

7.5 Price Application for Automation Flats

Automation prices apply to each piece properly sorted into qualifying groups:

[Revise items a and b to read as follows.]

a. The 5-digit price applies to flat-size pieces in a 5-digit/scheme bundle or pooled in a FSS scheme bundle of 10 or more pieces, or 15 or more pieces, as applicable;

b. The 3-digit price applies to flat-size pieces in a 3-digit/scheme bundle or pooled in a FSS scheme bundle of 10 or more pieces.

* * * * *

[Delete items e through h.]

* * * * *

245 Mail Preparation

1.0 General Information for Mail Preparation

* * * * *

1.6 FSS Preparation

[Revise the text of 1.6 to read as follows.]

Except for Standard Mail flats mailed at Saturation prices, all Standard Mail flats and meeting the physical standards in 201.6.2 destinating to a FSS scheme in accordance with labeling list L006 must be prepared under 705.14.0.

* * * * *

7.0 Preparing Automation Letters

* * * * *

7.5 Tray Preparation

[Revise the introductory text to read as follows.]

Instead of preparing overflow trays with fewer than 150 pieces, mailers may include these pieces in an existing qualified tray of at least 150 or more pieces at the next tray level. (For example, if a mailer has 30 overflow 5-digit pieces for ZIP Code 20260, these pieces may be added to an existing qualified AADC tray for the correct destination and the overflow 5-digit pieces will still qualify for the 5-digit price). Mailers must note these trays on standardized documentation (see 708.1.2). Pieces that are placed in the next tray level must be grouped by destination and placed in the front or back of that tray. Mailers may use this option selectively for AADC ZIP Codes. This option does not apply to origin/entry AADC trays. Preparation sequence, tray size, and Line 1 labeling:

* * * * *

[Delete item b and renumber items c and d as items b and c.]

[Revise renumbered item b to read as follows.]

c. AADC: optional, but required for AADC price (150-piece minimum except no minimum for origin entry AADC); overflow allowed; group pieces by 3-digit (or 3-digit scheme) ZIP Code prefix. For Line 1, use L801, Column B.

* * * * *

7.6 Tray Line 2

Line 2: “STD LTR” and:

[Delete items c and d and renumbered items e and f as c and d.]

* * * * *

246 Enter and Deposit

* * * * *

6.0 Destination Flat Sequencing System (DFSS) Facility Entry

* * * * *

6.2 Eligibility

[Revise the first sentence of 6.2 to read as follows.]

DSCF prices apply to pieces deposited at a USPS-designated FSS processing site and correctly placed in or on a container labeled to a FSS scheme or FSS Facility processed by that site under labeling list L006 (Column B or Column C).

* * * * *

260 Bound Printed Matter

263 Prices and Eligibility

1.0 Prices and Fees for Bound Printed Matter

1.1 Nonpresorted Bound Printed Matter

1.1.1 Prices

[Revise the second sentence of 1.1.1 to read follows.]

* * * The nonpresorted price applies to BPM not mailed at the Presorted or carrier route prices. * * *

* * * * *

1.2 Presorted and Carrier Route Bound Printed Matter

* * * * *

1.2.3 Price Application

[Revise the first sentence of 1.2.3 to read as follows.]

The presorted Bound Printed Matter price has a per piece charge and a per pound charge. * * *

* * * * *

1.2.8 Computing Postage for Permit Imprint

[Revise the introductory text of 1.2.8 to read as follows.]

Presorted and Carrier Route Bound Printed Matter mailings paid with permit imprint are charged a per pound price and a per piece price as follows:

* * * * *

4.0 Price Eligibility for Bound Printed Matter

4.1 Price Eligibility

BPM prices are based on the weight of a single addressed piece or 1 pound, whichever is higher, and the zone (where applicable) to which the piece is addressed. Price categories are as follows:

* * * * *

[Revise items b and c to read as follows.]

b. Presorted Price. The Presorted price applies to BPM prepared in a mailing of at least 300 BPM pieces, prepared and presorted as specified in 265.5.0, 265.8.0, 705.8.0, 705.14.0 and 705.21.0. Each parcel must bear a unique Intelligent Mail package barcode or extra services barcode, including a postal routing code, prepared under 708.5.0.

c. Carrier Route Price. The Carrier Route price applies to BPM prepared in a mailing of at least 300 pieces presorted to carrier routes, prepared and presorted as specified in 265.6.0, 265.9.0, 705.8.0 or 705.14.0. Each parcel must bear a unique Intelligent Mail package barcode or extra services barcode, including a postal routing code, prepared under 708.5.0.

* * * * *

4.2 Destination Entry Price Eligibility

[Revise the first sentence of the introductory text to read as follows.]

BPM destination entry prices apply to BPM mailings prepared as specified in 705.8.0, 705.14.0 and 265, and addressed for delivery within the service area of a destination network distribution center, sectional center facility, or delivery unit where they are deposited by the mailer. * * *

* * * * *

[Revise item b to read as follows.]

b. A destination sectional center facility (DSCF) includes all facilities in L005 and destination flats sequencing system (DFSS) in L006.

* * * * *

265 Mail Preparation

1.0 General Information for Mail Preparation

* * * * *

1.6 FSS Preparation

[Revise text of 1.6 to read as follows.]

BPM flats claiming presorted prices in FSS scheme bundles, meeting the standards in 201 and destinating to a FSS scheme in accordance with labeling list L006, must be prepared under 705.14.0.

* * * * *

266 Enter and Deposit

* * * * *

5.0 Destination Sectional Center Facility (DSCF) Entry

* * * * *

5.2 Presorted Flats

[Revise the text of 5.2 to read as follows.]

Presorted flats and automation flats in sacks for the FSS scheme, 5-digit, 3-digit, and SCF sort levels or on pallets at the 5-digit scheme, 5-digit, 3-digit, SCF, and ASF sort levels may claim DSCF prices. Mail must be entered at the appropriate facility under 5.1.

* * * * *

7.0 Destination Flat Sequencing System (DFSS) Facility Entry

* * * * *

7.2 Eligibility

[Revise the first sentence of 7.2 to read as follows.]

DSCF prices apply to pieces deposited at a USPS-designated FSS processing facility and correctly placed on a container labeled to a FSS scheme or a FSS facility processed by that facility or to a single 5-digit destination processed by that facility under labeling list L006.

* * * * *

503 Extra and Additional Services

503.1.0 Basic Standards for All Extra Services

* * * * *

1.4 Matter Eligible for Extra Services

1.4.1 Eligible Matter

* * * * *

Exhibit 1.4.1 Eligible Matter—Domestic Destinations

[Revise Exhibit 1.4.1 as follows.]

Extra service | Eligible mail class | Additional combined services
Registered Mail | * * * | [Revise Registered Mail COD to read Registered Mail COD HFPU]
* * * |  | * * *
* * * * * * *
Return Receipt | * * * | * * *
* * * |  | [Revise Collect on Delivery and Collect on Deliver Restricted Delivery to read as follows] Collect on Delivery HFPU Collect on Delivery HFPU Restricted Delivery * * *
USPS Signature Services
Signature Confirmation | * * * | [Revise Collect on Delivery to read as follows.] Collect on Delivery Hold for Pickup (COD HFPU) * * *
Signature Confirmation Restricted Delivery | * * * | [Revise Collect on Delivery to read as follows.] Collect on Delivery Hold for Pickup (COD HFPU) * * *
* * * * * * *
[Revise the entire section for Collect on Delivery to read as follows:]
Collect on Delivery Hold for Pickup (COD HFPU) COD HFPU Restricted Delivery | Priority Mail Express (1-Day and 2-Day only) Priority Mail First-Class Package Service Parcel Select Ground Bound Printed Matter ² | Return Receipt Signature Confirmation ² (not available for purchase with Priority Mail Express COD HFPU) Special Handling-Fragile
* * * * * * *
Special Handling
Special Handling—Fragile | * * * * * * | [Revise Collect on Delivery to read as follows.] Collect On Delivery Hold for Pickup (COD HFPU) * * *
[Revise the footnotes to read as follows.]
¹ Not at retail.
² Parcels only.
³ If also purchased with Certified Mail, COD HFPU, insurance over $500.00 or Registered Mail, as eligible for the mail class.
⁴ If also purchased with bulk insurance over $500.00.
⁵ If also purchased with COD HFPU insurance over $500.00, as eligible for the mail class.
⁶ If purchased with insurance over $500.00, COD HFPU, Registered Mail, or Signature Confirmation Restricted Delivery.
⁷ Excludes Marketing Parcels.

* * * * *

Exhibit 1.4.2 Eligible Matter—Offshore Domestic Destinations

Extra service | APO/FPO/DPO | U.S. territories and possessions | Freely associated states
[Revise the heading for COD to read as follows:]
COD HFPU | No | Yes | Limited.³

* * * * *

1.5 Mailing

1.5.1 Where to Mail

[Revise the second and third sentences of 1.5.1 to read as follows.]

* * * Except for Registered Mail (see 2.0), COD HFPU (see 9.0), and Adult Signature (see 8.0), items with postage and extra service fees affixed may be placed in, but not on, a Post Office maildrop, a street letterbox, or a rural mailbox, or may be given to the carrier (for that delivery address). A mailer may schedule a Pickup on Demand, or schedule a Package Pickup using www.usps.com for items bearing extra services (except for Registered Mail, COD HFPU, and Adult Signature in certain circumstances); however a physical scan must be received from the USPS as evidence of acceptance (See 1.10 for obtaining mailing receipts for extra service items). * * *

1.5.2 Presenting to Rural Carriers

[Revise the second sentence of 1.5.2 to read as follows.]

* * * When Registered Mail, Insured Mail, Certificate of Mailing, Collect on Delivery Hold for Pickup (COD HFPU) (shipping label must already be affixed), and Adult Signature in certain circumstances, is desired, additional conditions under the standards for the extra service must be met. * * *

* * * * *

1.10 Receipts

[Revise the text of 1.10 to read as follows.]

Except for certificate of mailing under 5.0, the mailer receives a USPS sales receipt and the postmarked (round-dated) extra service form for services purchased at retail channels. The mailer must provide the receipt when submitting an insurance claim or filing an inquiry. For articles mailed via PC Postage or other online services, the mailer may access a computer printout online that identifies the applicable extra service number, total postage paid, insurance fee amount, declared value, declared mailing date, origin ZIP Code, and delivery ZIP Code. For three or more pieces with extra or accountable services presented for mailing at one time, the mailer uses Form 3877 (firm sheet) or USPS-approved privately printed firm sheets (see 1.7.2) in lieu of the receipt portion of the individual form. All entries made on firm sheets must be computer-generated or made by typewriter, ink, or ballpoint pen. Alterations must be initialed by the mailer and accepting employee. Obliterate all unused portions of the addressee column with a diagonal line. USPS-approved privately printed firm sheets that contain the same information as Form 3877 may be approved by the local Postmaster or manager Business Mail Entry. The mailer may omit columns from privately printed Form 3877 that are not applicable to extra service requested. If the mailer wants the firm sheets receipted by the USPS (postmarked), the mailer must present the firm sheets with the articles to be mailed at a Post Office. The postmarked firm sheets become the mailer's receipts. For Registered Mail and COD HFPU (when Label 3816 is used), the mailer submits the forms in duplicate and receives one copy as a mailing receipt after the entries are verified by the postal employee accepting the mailing. Except for Registered Mail and COD HFPU items, the USPS keeps no mailing records for mail pieces bearing extra services.

2.0 Registered Mail

[Revise the heading and introductory text of 2.1.5 to read as follows.]

2.1.5 Registered Mail COD HFPU

Sealed domestic mail bearing First-Class Package Service or Priority Mail postage may be sent as Registered Mail COD HFPU when meeting the standards in 9.0 and as follows:

* * * * *

[Revise the third sentence of item b to read as follows.]

b. * * * The total fees charged for registered COD HFPU service include the proper registry fee for the value declared plus the registered COD HFPU fee. * * *

[Revise the first sentence of item c to read as follows.].

c. The registered label and the COD HFPU label must be affixed to each article. * * *

* * * * *

4.0 Insured Mail

* * * * *

4.1.1 Additional Insurance-Priority Mail Express

[Revise 4.1.1 to read as follows.]

Additional insurance, up to a maximum coverage of $5,000.00, may be purchased for merchandise valued at more than $100.00 sent by Priority Mail Express. The additional insurance fee is in addition to postage and other fees. See Notice 123—Price List. Coverage is limited to the actual value of the contents, regardless of the fee paid, or the highest insurance value increment for which the fee is fully paid, whichever is lower. When “signature required” service is not requested or when “waiver of signature” is requested, additional insurance is not available.

* * * * *

[Revise the heading of 9.0 to read as follows.]

9.0 Collect on Delivery Hold for Pickup (COD HFPU)

9.1 Basic Standards

9.1.1 Description

[Revise 9.1.1 to read as follows.]

Collect on Delivery Hold for Pickup (COD HFPU) is subject to the basic standards in 1.0, and 508.7.0 for HFPU; see 1.4 for eligible matter. Any mailer may use COD HFPU to mail an article (using a unique COD HFPU number for each article) for which the mailer has not been paid and have its price and the cost of the postage collected (not to exceed $1,000.00) from the addressee (or agent) and held for pickup at the Post Office of the addressee. COD HFPU service provides the mailer with a mailing receipt and the USPS maintains a record of delivery (including the recipient's signature). The recipient has the option to pay the COD HFPU charges (with one form of payment) by cash, pin-fed debit card, or a personal check or money order made payable to the mailer (accepted by the USPS employee upon the recipient's presentation of adequate identification). The USPS forwards the check or money order to the mailer. If payment is made by cash, a money order fee is will be collected from the recipient separately (unless the mailer is authorized to participate in electronic funds transfer (EFT) for the remittance (contact the National Customer Support Center (NCSC) (See 608.8.0) for EFT enrollment information), in addition to the COD HFPU amount. The Postal Service cannot intervene in disputes between mailers and recipients of COD HFPU mail after payment was returned to the mailer. Customers may obtain a delivery record by purchasing a return receipt. Bulk proof of delivery service (7.0) is also available if electronic return receipt service is purchased at the time of mailing.

[Revise the heading and text of 9.1.2 to read as follows.]

9.1.2 Additional Conditions for COD HFPU Mail

COD HFPU service is available under the following additional conditions:

a. The name and address of the person to whom the remittance is to be sent must appear in the proper location on the COD HFPU label and in the return address area on the COD HFPU article with the postal endorsements for return if undeliverable. The return address must be the same in both locations.

b. The mailer guarantees to pay any return postage, unless otherwise specified on the label.

c. The goods shipped are ordered by the addressee.

d. COD HFPU service may not be used for:

1. Articles sent to international destinations, or from an APO/FPO/DPO address, including official mail and shipments to Armed Forces agencies.

2. The return of merchandise about which some dissatisfaction arises, unless the new addressee consents in advance to such return.

3. The mailing of only bills or statements of account, even with the addressee's consent. If a legitimate COD HFPU shipment of merchandise is mailed, the balance due on a past or expected transaction may be included in the charges on a COD HFPU article, if the addressee consents in advance to such action. In such a case, USPS indemnity is limited to the value of the article lost or damaged, not the full COD HFPU charges to be collected.

[Revise the heading and text of 9.1.3 to read as follows.]

9.1.3 Registered Mail COD HFPU

Sealed domestic mail bearing First-Class Package Service, or Priority Mail postage may be sent as Registered Mail COD HFPU mail as provided under 9.0 and 2.1.5.

[Revise the heading and text of 9.1.4 to read as follows.]

9.1.4 Priority Mail Express COD HFPU

Any article sent COD HFPU also may be sent by Priority Mail Express (1-Day and 2-Day service only) when a signature is requested. The maximum amount collectible from the addressee on one article is $1,000.00, and indemnity is limited to $1,000.00. Priority Mail Express postage and the proper COD HFPU fees must be paid. Both the Priority Mail Express label and COD HFPU label must be affixed to each article.

9.1.5 Mailing

[Revise 9.1.5 to read as follows.]

COD HFPU mail must be presented for mailing as provided in 1.5 to the local Post Office or to rural carriers when the articles are prepared properly, with stamps for the required postage and fees affixed. If the mailer wants insurance for an amount more than the COD HFPU amount to be collected, that amount must be shown.

9.1.6 Identifying Number

[Revise 9.1.6 to read as follows.]

Each COD HFPU articles is identified by a number on each section of the COD HFPU label. When COD HFPU is used with Priority Mail Express or Registered Mail, a separate barcoded shipping label (under 1.7), the mailer must place both the label and the COD HFPU label on the front of the article. The Priority Mail Express article number or the Registered Mail number is used for delivery receipt and indemnity claims.

* * * * *

[Delete 9.1.8 in its entirety.]

[Revise the heading of 9.2 to read as follows.]

9.2 Labels

[Revise the heading and text of 9.2.1 to read as follows.]

9.2.1 Label 3816 COD HFPU

The mailer must securely affix a completed COD HFPU Label 3816 to each article. The label must be attached either above the delivery address or to the right of the return address, or to the left of the delivery address on parcels. Privately printed or computer-generated firm sheets may be used under the standards in 1.10. The mailer must submit firm sheets in duplicate and will receive one copy of the postmarked form as a mailing receipt after the entries are verified by a postal employee. The acceptance Post Office retains the second copy.

[Revise the heading and text of 9.2.2 to read as follows.]

9.2.2 Completing COD HFPU Labels Forms

The label must show article number, name and domestic address of the mailer, hold for pickup Post Office location for the addressee, and the amount due from the mailer (for payments made in cash, the money order fee necessary to make remittance will be collected from the recipient separately and is not included in the amount due the mailer indicated on the label). The USPS is not responsible for errors that a mailer makes in stating the charges to be collected. The information required on the COD HFPU label must be handwritten, typed or computer generated in ink. The mailer may not stipulate a specific payment method on the COD HFPU label.

9.2.3 Nursery Stock

[Revise the introductory text of 9.2.3 to read as follows.]

A firm that mails nursery stock may use Form 3816 and include instructions for disposing of shipments not delivered immediately by printing instructions on the back of the delivery office part of the COD HFPU form (item a) and on the remittance coupon (item b) as follows:

* * * * *

12.0 Money Orders

* * * * *

12.3 Cashing Money Orders

* * * * *

[Revise the heading and text of 12.3.8 to read as follows.]

12.3.8 COD HFPU Parcel

No payment is made when a money order is issued in return for a COD HFPU parcel, and is presented by the addressee (purchaser), and the money order is not endorsed by the payee (shipper) or the payee has not authorized payment to the purchaser by written approval.

* * * * *

505 Return Services

1.0 Business Reply Mail (BRM)

* * * * *

1.1.3 Basic Qualified BRM (QBRM)

[Revise the first sentence of 1.1.3 to read as follows.]

For basic qualified BRM a permit holder is required to an account maintenance fee under 1.1.8, and a per-piece fee under 1.1.7 in addition to the applicable letter or card First-Class Mail postage for each returned piece. ***

1.1.4 High-Volume Qualified BRM

[Revise the text of 1.1.4 to read as follows.]

In addition to the account maintenance, per-piece fees and applicable postage required under 1.1.3, a quarterly fee under 1.1.11 is required for high-volume QBRM.

* * * * *

1.2 Permits

* * * * *

1.2.2 Application Process

[Revise the first sentence of 1.2.2 to read as follows.]

The mailer may apply for a BRM permit by submitting a completed Form 3615 to the Post Office issuing the permit and except under 1.2.3 paying the annual permit fee. * * *

1.2.3 Annual Permit Fee

[Revise the first sentence of 1.2.3 to read as follows.]

Except for QBRM permits, a permit fee must be paid once each 12-month period at each Post Office where a BRM permit is held. * * *

1.2.4 Renewal of Annual Permit Fee

[Revise the introductory text of 1.2.4 to read as follows.]

Except for QBRM permits, an annual renewal notice is provided to each BRM permit holder by the USPS. QBRM permits do not expire unless the account is unused for a period of 12 months. The renewal notice and the payment for the next 12 months must be returned by the expiration date to the Post Office that issued the permit. After the expiration date, if the permit holder has not paid the annual permit fee, then returned BRM pieces are treated as follows:

* * * * *

1.2.6 Revocation of a Permit

[Revise the text of 1.2.6 to read as follows.]

The USPS may revoke any BRM permit because of format errors or for refusal to pay the applicable permit fees (annual, accounting, quarterly, or monthly), postage, or per piece fees. If the permit was revoked due to format errors, then a former permit holder may obtain a new permit and permit number by completing and submitting a new Form 3615, paying the required BRM annual permit fee (if applicable), paying a new annual account maintenance fee (if applicable), and, for the next 2 years, submitting two samples of each BRM format to the appropriate Post Office for approval.

507 Mailer Services

1.0 Treatment of Mail

* * * * *

1.3 Directory Service

* * * * *

[Revise item a to read as follows.]

a. Mail with extra services (certified, COD HFPU, registered, special handling).

* * * * *

1.8 Returning Mail

* * * * *

1.8.5 Extra Services

[Revise the first and fourth sentences of 1.8.5 to read as follows.]

If a return receipt is attached to a certified, Collect on Delivery Hold for Pickup (COD HFPU), numbered insured, registered, return receipt for merchandise, or Priority Mail Express piece to be returned, the reason for nondelivery is shown on the face of the piece. * * * The sender must sign a delivery receipt for returned Priority Mail Express, Registered Mail, COD HFPU articles, Adult Signature services, and mail insured for more than $500. * * *

* * * * *

1.8.7 Post Office Box

[Revise 1.8.7 to read as follows.]

Deliverable mail addressed to a Post Office box is not returned until after the box is declared vacant, except for certified, collect on delivery (COD HFPU), insured, registered, postage due, Adult Signature and perishable mail.

* * * * *

2.0 Forwarding

2.3 Postage for Forwarding

* * * * *

2.3.7 Extra Services

[Revise 2.3.7 to read as follows.]

Certified, Collect on Delivery Hold For Pickup (COD HFPU), USPS Tracking, insured, registered, Signature Confirmation, Adult Signature, return receipt for merchandise, and special handling mail, is forwarded to a domestic address only without additional extra service fees, subject to the applicable postage charge.

2.0 Premium Forwarding Service

* * * * *

3.3 Premium Forwarding Service Commercial

* * * * *

3.3.3 Conditions

* * * * *

[Revise item g to read as follows.]

g. Priority Mail Express, or mailpieces with USPS Tracking, Certified Mail, COD HFPU, insurance, Signature Confirmation, or Adult Signature are shipped to the destination delivery office Postmaster separately, for proper handling.

* * * * *

4.0 Address Correction Services

4.3 Sender Instruction

* * * * *

4.3.2 Extra Services

[Revise the first sentence of the introductory text to read as follows.]

A change-of-address order to a domestic address covers Certified Mail, COD HFPU insured, Registered Mail, Signature Confirmation, Adult Signature services, and return receipt for merchandise mail unless the sender gives other instructions.

* * * * *

4.3.4 Holding Mail

[Revise the first sentence of 4.3.4 to read as follows.]

At the sender's request, the delivery Post Office holds mail, other than Registered Mail, insured, Certified Mail, Adult Signature, Signature Confirmation and return receipt for merchandise, for no fewer than 3 days nor more than 30 days.

* * * * *

508 Recipient Services

1.0 Recipient Options

1.1 Basic Recipient Concerns

* * * * *

1.1.3 Refusal After Delivery

* * * * *

[Revise item a to read as follows.]

a. Pieces sent as Registered Mail, insured, Certified Mail, Collect on Delivery Hold for Pickup (COD HFPU), Adult Signature and return receipt for merchandise.

* * * * *

1.1.7 Priority Mail Express and Accountable Mail

[Revise the introductory text to read as follows.]

The following conditions also apply to the delivery of Priority Mail Express, Registered Mail, Certified Mail, mail insured for more than $500.00, Adult Signature, or COD HFPU, as well as mail for which a return receipt is requested or the sender has specified restricted delivery.

* * * * *

[Revise item f to read as follows.]

f. A notice is provided to the addressee for a mailpiece that cannot be delivered. If the piece is not called for or redelivery is not requested, the piece is returned to the sender after 15 days (5 days for Priority Mail Express), unless the sender specifies fewer days on the piece.

* * * * *

1.8 Commercial Mail Receiving Agencies

1.8.1 Procedures

* * * * *

[Revise item d to read as follows.]

d. A CMRA is authorized to accept the following accountable mail from their customers for mailing at the Post Office: Insured, Priority Mail Express, Certified Mail, USPS Tracking, and Signature Confirmation mail. The sender (CMRA customer) must present accountable mail items not listed to the Post Office for mailing.

* * * * *

7.0 Hold For Pickup

* * * * *

7.2 Basic Information

* * * * *

7.2.5 Extra Services

[Delete item e]

* * * * *

602 Addressing

1.0 Elements of Addressing

* * * * *

1.5 Return Addresses

* * * * *

1.5.3 Required Use of Return Addresses

* * * * *

[Revise item l to read as follows.]

l. Collect on Delivery Hold for Pickup (COD HFPU) mail.

* * * * *

3.0 Use of Alternative Addressing

3.1 General Information

* * * * *

3.1.2 Prohibited Use

Alternative addressing formats may not be used on:

* * * * *

e. Mail with the following extra services:

[Revise item 8 to read as follows.]

8. Collect on Delivery Hold for Pickup (COD HFPU).

* * * * *

604 Postage Payment Methods and Refunds

* * * * *

4.0 Postage Meters and PC Postage Products (“Postage Evidencing Systems”)

* * * * *

4.6 Mailings

4.6.1 Mailing Date Format

* * * The mailing date format used in the indicia is also subject to the following conditions.

a. Complete Date. Mailers must use a complete date for the following:

[Revise item 2 to read as follows.]

2. All mailpieces with Insured Mail, COD HFPU (only when a manual office COD HFPU Label 3816 is used), or Special Handling service.

* * * * *

5.0 Permit Imprint (Indicia)

[Revise the heading and text of 5.1.4 to read as follows.]

5.1.4 Permit and Application Information

A mailer may obtain a permit to use a permit imprint indicia by submitting Form 3615 to the Post Office where mailings are made, or online under the terms and conditions in the Business Customer Gateway portal at https://gateway.usps.com. Mail Anywhere allows a qualified mailer to maintain a single permit for a postage payment method for mailings at any Business Mail Acceptance site under 705.23.3.2.

5.1.5 Application Fee

[Revise the text of 5.1.5 to read as follows.]

No application fee is required.

* * * * *

5.2 Suspension and Revocation

* * * * *

5.2.2 Revocation of Permit

[Revise the first sentence of 5.2.2 to read as follows.]

A permit may be revoked for use in operating any unlawful scheme or enterprise, if no mailings or payment of postage occurred during any consecutive 2-year period, for refusal to provide information about permit imprint use or mailings, and for noncompliance with any standard applicable to permit imprints. * * *

* * * * *

5.3 Indicia Design, Placement, and Content

* * * * *

5.3.10 Use of a Local Permit Imprint in Other Mailing Locations

A permit imprint displaying the city, state, and permit number of a mailer's original permit may be applied to pieces in a mailing presented for verification and acceptance at another Post Office location under the following conditions:

[Delete item a and renumber items b through d as items a through c]

* * * * *

[Revise the heading and introductory text of 5.5 to read as follows.]

5.5 Share Mail

Share Mail is an electronic postage payment mechanism for single-piece First-Class Mail letters or postcards, addressed to any domestic address, that weigh no more than one ounce each. Customers wishing to participate in this program must submit their request in writing to the Manager, New Solutions, Mailing Services, USPS, 475 L'Enfant Plaza SW., Room 5440, Washington, DC 20260-4440. Customers participating in the Share Mail postage payment program must, at a minimum, meet the following requirements:

a. Have a Centralized Account Processing System (CAPS) account link with USPS;

b. Submit production quality mailpieces to USPS for pre-approval and have received subsequent USPS approval; and

c. Have approved mailpieces that bear unique or static Intelligent Mail barcodes, an approved permit imprint indicia in the upper-right hand corner of the mailpiece, and a special facing identification mark (FIM E) (see 708.9.2e.).

* * * * *

9.0 Exchanges and Refunds

* * * * *

9.2 Postage and Fee Refunds

* * * * *

9.2.4 Postage and Fee Refunds Not Available

Refunds are not made for the following:

* * * * *

[Revise item b to read as follows.]

b. Collect on Delivery Hold for Pickup (COD HFPU), Priority Mail Express insurance, insured mail, and Registered Mail fees, after the USPS accepts the article (even if the article is later withdrawn from the mail).

* * * * *

11.0 Postage Due Weight Averaging Program

11.1 Basic Information

* * * * *

11.1.3 Quality Control

[Revise the first sentence of the introductory text to read as follows.]

PDWA customers may elect to establish a quality control program to ensure that all missorted and accountable mail (including Certified Mail), return receipt for merchandise, USPS Tracking, Adult Signature, and Signature Confirmation) is identified and returned to the servicing Post Office prior to being opened. * * *

* * * * *

609 Filing Indemnity Claims for Loss or Damage

1.0 General Filing Instructions

1.1 Extra Services With Indemnity

[Revise the text of 1.1 to read as follows.]

A customer may file an indemnity claim for insured mail, COD HFPU items, Registered Mail with postal insurance, or Priority Mail Express. See Publication 122, available on www.usps.com, for additional information.

* * * * *

1.3 Who May File

A claim may be filed by:

* * * * *

[Revise item e to read as follows.]

e. Only the mailer, for insured or collect on delivery (COD HFPU) parcels paid using eVS under 705.2.9.

1.4 When to File

File claims as follows:

* * * * *

b. Lost Articles: customers must file a claim within the time limits in the chart below.

[Revise the table to read as follows.]

Mail type or service | When to file (from mailing date): No sooner than | When to file (from mailing date): No later than
Priority Mail Express | 7 days | 60 days
Priority Mail Express COD HFPU | 15 days | 60 days
Registered Mail | 15 days | 60 days
Registered COD HFPU | 15 days | 60 days
Insured Mail (including Priority Mail under 503.4.2) | 15 days | 60 days
COD HFPU | 15 days | 60 days
APO/FPO Priority Mail, Express Military Service | 21 days | 180 days
APO/FPO/DPO Insured Mail and registered Mail (Priority Mail, First-Class Mail, SAM, or PAL) | 45 days | 1 year
APO/FPO/DPO Insured Mail (Surface only) | 75 days | 1 year

1.5 Where and How to File

1.5.1 Claims Filed Online

[Revise the first sentence of 1.5.1 to read as follows.]

Domestic indemnity claims should be filed online (preferred) at ww.usps.com/domestic-claims for domestic insured mail, COD HFPU, Registered Mail with postal insurance, and Priority Mail Express. * * *

3.0 Providing Evidence of Insurance and Value

3.1 Evidence of Insurance

For a claim involving articles listed in 1.1, the customer must retain evidence showing that the specific USPS service was purchased, until the claim is resolved. Examples of acceptable evidence are:

[Revise items a and b to read as follows.]

a. The original mailing receipt issued at the time of mailing (Registered Mail receipts must contain a USPS postmark). For insured mail and COD HFPU, a photocopy of the original retail mailing receipt is acceptable.

b. The outer packaging showing the names and addresses of the sender and the addressee and the proper label showing that the article was sent insured, COD HFPU, Registered Mail with postal insurance, or Priority Mail Express. (If only the outer packaging is submitted, indemnity can be limited to $100 for insured, $50 for COD HFPU, $100 for Registered Mail, and $100 for Priority Mail Express.)

* * * * *

[Revise the first sentence of item d to read as follows.]

d. For insurance or COD HFPU, purchased online, a printed electronic online label record or a computer printout from the application used to print the label and purchase the insurance. * * *

[Revise the introductory text of item e to read as follows.]

e. For insured mail or COD HFPU mail paid using MMS or eVS under 705.2.0, the mailer must use one of the following:

* * * * *

[Revise item e2 to read as follows.]

2. A printout of the part of Form 3877 that identifies the parcel by article number, the package identification code (PIC) of the insured or COD HFPU parcel, total postage paid, fee paid, declared insured value, amount due sender if COD HFPU, mailing date, origin ZIP Code, and delivery ZIP Code reported in the parcel record in the manifest file.

* * * * *

4.0 Claims

4.1 Payable Claim

[Revise the introductory text and item c to read as follows.]

Insurance for loss or damage to insured, COD HFPU, or Registered Mail within the amount covered by the fee paid, or the indemnity limits for Priority Mail, or Priority Mail Express (under 4.2), is payable for the following:

* * * * *

c. Remittance due on a COD HFPU parcel not received by the sender, subject to the limitations set by the standards for COD HFPU service.

* * * * *

4.3 Nonpayable Claims

[Revise the introductory text of 4.3 to read as follows.]

Indemnity is not paid for insured mail (including Priority Mail Express and Priority Mail), Registered Mail, COD HFPU, or Priority Mail and Priority Mail Express in these situations:

* * * * *

[Revise item w to read as follows.]

w. Items sent COD HFPU without the addressee's consent.

* * * * *

5.0 Compensation

* * * * *

5.4 Loss

[Revise the text of 5.4 to read as follows.]

If the insured, registered, or COD HFPU article is lost the payment includes an additional amount for the postage (not fee) paid by the sender. Postage for Priority Mail Express is refunded under 604.9.5.

* * * * *

5.7 Recovered Article

[Revise the first sentence of 5.7 to read as follows.]

If a lost registered, insured, COD HFPU, or Priority Mail Express article is recovered after payment of a claim, the payee may accept the article and reimburse the USPS for the full amount paid if the article is undamaged.

* * * * *

703 Nonprofit Standard Mail and Other Unique Eligibility

* * * * *

3.0 Department of State Mail

* * * * *

3.2 Conditions for Authorized Mail

* * * * *

3.2.6 Extra Services

* * * * *

[Revise item a to read as follows.

a. Collect on Delivery (COD HFPU).

* * * * *

9.0 Mixed Classes

* * * * *

9.13 Extra Services for Mixed Classes

* * * * *

[Revise the heading and text of 9.13.2 to read as follows.]

9.13.2 Insured and COD HFPU

A combination mailpiece may be sent insured or COD HFPU. The insurance covers only the value of the parcel.

* * * * *

705 Advanced Preparation and Special Postage Payment Systems

* * * * *

14.0 FSS Scheme Preparation

14.1 General

[Revise the introductory text of 14.1 to read as follows.]

All presorted and high density plus, high density and basic carrier route Standard Mail, presorted and carrier route Bound Printed Matter (BPM), and Periodicals flats including all carrier route flats meeting the standards in 201.6.2 must be separated/pooled into FSS schemes, properly bundled and placed on or in pallets, trays, sacks, or approved alternate containers, for FSS scheme ZIP Code combinations within the same facility. Mailings that include 10 or more pieces of Standard Mail flats, 6 or more pieces of Periodicals flats, or 10 or more pieces (or 10 or more pounds) of BPM flats to an FSS scheme must be separated/pooled into FSS scheme bundles. The Postal Service also recommends the use of authorized flat trays in lieu of sacks for FSS bundles. FSS scheme bundles that are not required to be placed in a FSS scheme or FSS facility container are combined with bundles of non-FSS sorted bundles and placed on an applicable SCF, 3-digit or NDC container. Mailers must prepare FSS scheme qualifying mailpieces for each individual FSS scheme combination, and then prepare bundles of uniform size from those pieces. Mailings (excluding saturation mailings of Standard Mail) with nonpresorted BPM flats may be included in FSS preparation, but will not be eligible for presorted or carrier route prices. Mailpieces that meet the eligibility standards for 5-digit or 3-digit automation, 5-digit or 3-digit nonautomation, carrier route (except Standard Mail saturation) or presort will continue to be eligible for those piece prices when prepared in accordance with the FSS preparations standards. Mailpieces and bundles must also be prepared as follows:

* * * * *

14.2 Basic Standards

14.2.1 Basic Standards

[Revise the introductory text and items a through e to read as follows.]

All Periodicals flats (including carrier route flats) meeting the standards in 201.6.2 and destinating to FSS sites as shown in L006 must be prepared according to these standards. Mailings of In-County Periodicals flats and the associated Outside-County Periodicals flats mailings of 5,000 pieces or less may be prepared according to these standards. Periodicals are subject to the following:

a. Pricing eligibility is based on 207.11.0 through 207.14.0. FSS bundles placed on FSS facility pallets, sacks, trays, or approved alternate container will claim the 3-Digit/SCF bundle price. FSS bundles placed on a FSS scheme pallet, sack, tray or approved alternate container will claim the Carrier Route bundle price.

b. FSS scheme pallets will be assessed the Carrier Route Pallet price. FSS facility sort level pallets will be charged a 3-Digit/SCF Pallet container price. FSS scheme or facility sacks or trays will be assessed the 3-Digit/SCF Sack/Tray price. Pallets, sacks and trays entered at a DFSS will claim the DSCF entry price.

c. The Outside-County pound price for mail entered at a DFSS will be the DSCF price. The Inside-County price will claim prices for the “None” entry level.

d. Mailers must provide standardized presort documentation under 708.1.0 that demonstrates eligibility for prices in accordance with 207.14.0 and 207.25.0.

e. Each mailpiece must be identified with an optional endorsement line in accordance with Exhibit 708.7.1.1, or when authorized, using a red Label 5 SCH barcoded pressure-sensitive bundle label.

* * * * *

14.3 Standard Mail

14.3.1 Basic Standards

[Revise the introductory text of 14.3.1 to read as follows.]

All flat-size Standard Mail mailpieces (except saturation) must be separated/pooled into 5-digit FSS scheme bundles and placed on pallets, or in sacks or approved alternate containers, for delivery to ZIP Codes having Flats Sequencing System (FSS) processing capability, as shown in L006. Standard Mail flats are subject to the following:

* * * * *

[Revise items b and c to read as follows.]

b. Mailers must provide standardized presort documentation under 708.1.0 that demonstrates eligibility for prices in accordance with 243.

c. Each mailpiece must be identified with an optional endorsement line in accordance with Exhibit 708.7.1.1; or when authorized, using a red Label 5 SCH barcoded pressure-sensitive bundle label.

* * * * *

14.4 Bound Printed Matter

14.4.1 Basic Standards

[Revise the introductory text of 14.4.1 to read as follows.]

Bound Printed Matter (BPM) flats that meet the standards in 201.6.2, must be separated/pooled into FSS scheme bundles and placed on pallets, or in flat trays, sacks, or approved alternate containers, for delivery to ZIP Codes having FSS processing capability, as shown in L006. BPM flats are subject to the following:

* * * * *

[Revise items b, c and d to read as follows.]

b. Mailers must provide standardized presort documentation under 708.1.0 that demonstrates eligibility for prices in accordance with 263.

c. Mailers must separate/pool all eligible flat-size mailpieces into FSS scheme bundles according to L006.

d. Each mailpiece must be identified with an optional endorsement line in accordance with Exhibit 708.7.1.1; or when authorized, using a red Label 5 SCH barcoded pressure-sensitive bundle label.

* * * * *

15.0 Combining Standard Mail Flats and Periodicals Flats

15.1.0 Basic Standards

* * * * *

15.1.6 Piece Prices

[Revise the text of 15.1.6 to read as follows.]

Apply piece prices based on the bundle level except FSS scheme bundles apply the piece prices based on the original bundle level. Pieces contained within mixed class bundles may claim prices based on the presort level of the bundle.

* * * * *

15.1.11 Preparation for FSS Zones

[Revise the introductory text of 15.1.11 to read as follows.]

Mailers authorized to combine mailings of Standard Mail flats and Periodicals flats must prepare these mailings under 14.0, when the mailing includes pieces destinating within one or more of the FSS zones in L006. The following applies:

[Revise item a to read as follows.]

a. Each mailpiece must be identified with an optional endorsement line (OEL), including the correct ZIP Code listed in L006, Column B, in accordance with Exhibit 708.7.1.1. The OEL described in 2.2 must not be used with mailpieces prepared under this option.

* * * * *

15.4.0 Pallet Preparation

15.4.1 Pallet Preparation, Sequence and Labeling

When combining Standard Mail and Periodicals flats within the same bundle or combining bundles of Standard Mail flats and bundles of Periodicals flats on pallets, bundles must be placed on pallets. Preparation, sequence and labeling:

[Reverse the order of items a and b to read as follows.]

a. 5-digit scheme carrier routes, required. Pallet must contain only carrier route bundles for the same 5-digit scheme under L001. For 5-digit destinations not part of L001, 5-digit carrier routes pallet preparation begins with 15.4.1c. Labeling:

1. Line 1: L001.

2. Line 2: “STD/PER FLTS”; followed by “CARRIER ROUTES” (or “CR-RTS”); followed by “SCHEME” (or “SCH”); followed by “MIX COMAIL.”

b. Merged 5-digit scheme, optional. Not permitted for bundles containing noncarrier route automation-compatible flats under 201.6.0. Required for all other bundles. Pallet must contain carrier route bundles and noncarrier route 5-digit bundles (Presorted bundles only) for the same 5-digit scheme under L001. For 5-digit destinations not part of L001, merged 5-digit pallet preparation begins with 15.4.1d. Labeling:

1. Line 1: L001.

2. Line 2: “STD/PER FLTS CR/5D;” followed by “SCHEME” (or “SCH”); followed by “MIX COMAIL.”

* * * * *

708 Technical Specifications

1.0 Standardized Documentation for First-Class Mail, Periodicals, Standard Mail, and Flat-Size Bound Printed Matter

* * * * *

1.3 Price Level Column Headings

The actual name of the price level (or abbreviation) is used for column headings required by 1.2 and shown below:

a. Automation First-Class Mail, Standard Mail, and barcoded Periodicals:

[Revise the table in item a to read as follows.]

Price | Abbreviation
5-Digit scheme [FSS Periodicals flats and Standard Mail flats] | 5BF
5-Digit [First-Class Mail letters and flats, Periodicals letters and flats, and Standard Mail letters and flats] | 5B
3-Digit FSS [Periodicals flats and Standard Mail flats] | 3BF
3-Digit [First-Class Mail letters and flats, Periodicals letters and flats, and Standard Mail letters and flats] | 3B
AADC [First-Class Mail, Periodicals, and Standard Mail letters] | AB
ADC [First-Class Mail, Periodicals, and Standard Mail Flats] | AB
Mixed AADC [First-Class Mail, Periodicals, and Standard Mail letters] | MB
Mixed ADC [First-Class Mail, Periodicals, and Standard Mail flats] | MB
Basic [In-County Periodicals] | BB
Firm [Outside-County Periodicals] | FB

[Revise the table in item b to read as follows.]

b. Presorted First-Class Mail, barcoded and nonbarcoded Periodicals flats, nonbarcoded Periodicals letters, and machinable and nonmachinable Standard Mail:

Price | Abbreviation
Presorted [First-Class Mail letters/cards, flats, and parcels] | Presort
5-Digit [all Standard Mail and Periodicals letters] | 5D
5-Digit FSS [Periodicals flats and Standard Mail flats] | 5DF
3-Digit [all Standard Mail and Periodicals letters] | 3D
3-Digit FSS [Periodicals flats and Standard Mail flats] | 3DF
SCF [for Standard Mail parcels] | SCF
AADC [Standard Mail machinable letters] | AB
ADC [Standard Mail nonmachinable letters, flats, and irregular parcels, and all Periodicals] | AD
Basic [In-County Periodicals] | BS
Mixed AADC [Standard Mail machinable letters] | MB
Mixed ADC [Standard Mail nonmachinable letters, flats, irregular parcels; and all Periodicals] | MD
NDC [Standard Mail machinable parcels and Marketing parcels 6 ounces and over] | NDC
Mixed NDC [Standard Mail machinable parcels and Marketing parcels 6 ounces and over] | MNDC
Firm [Outside-County Periodicals] | FB

c. Carrier Route Periodicals and Enhanced Carrier Route Standard Mail:

[Revise the table in item c to read as follows.]

Price | Abbreviation
Saturation [letters, flats, and irregular parcels] | WS
Saturation FSS [Periodicals flats] | WSF
High Density [letters, flats, and irregular parcels] | HD
High Density FSS [flats] | HDF
High Density Plus [Standard Mail only; letters and flats] | HDP
High Density Plus FSS [Standard Mail only flats] | HPF
Basic [letters, flats, and irregular parcels] | CR
Basic FSS [flats] | CRF
Firm [Outside-County Periodicals] | FB

* * * * *

1.6 Detailed Zone Listing for Periodicals

1.6.1 Definition and Retention

[Revise the first sentence of 1.6.1 to read as follows.]

The publisher must be able to present documentation to support the number of copies of each edition of an issue, by entry point, mailed to each zone, and at DDU, DSCF, DADC, DNDC, and In-County prices. * * *

* * * * *

1.6.3 Zone Abbreviations

Use the actual price name or the authorized zone abbreviation in the listings in 1.0 and 207.17.4.2:

Zone abbreviation | Rate equivalent
[Delete the row containing FSS]

* * * * *

7.0 Optional Endorsement Lines (OELs)

7.1 OEL Use

7.1.1. Basic Standards

[Revise the first sentence of the introductory text to read as follows.]

An optional endorsement line (OEL) may be used to label bundles instead of applying pressure-sensitive bundle labels or facing slips to the top piece of bundles except each mailpiece in a FSS bundle must bear an optional endorsement line in human-readable text, including the correct ZIP code listed in Column B of L006, as described in Exhibit 7.1.1. * * *

Exhibit 7.1.1 OEL Formats

[Revise Exhibit 7.1.1 to read as follows.]

Sortation level | OEL example
Firm—BPM machinable parcels | * * * * * * FIRM 12345.
Firm—Periodicals | * * * * * * FIRM 12345.
Origin Mixed ADC—Periodicals (3-digit ZIP Code prefix) | * * * * * * ORIGIN MIXED ADC 117.
Carrier Route—Periodicals basic | * * * * * * CAR-RT LOT**C-001 * * * * * * CR LOT 1234A**C-001.
Carrier Route—basic FSS | * * * * * * SCH 5-DIGIT 2345 FSSC.
Carrier Route—Periodicals high density | * * * * * * CAR-RT WSH**C-001.
Carrier Route—High density FSS | * * * * * * SCH 5-DIGIT 12345 FSSB.
Carrier Route—Periodicals saturation | * * * * * * CAR-RT WSS**C-001.
Carrier Route—Periodicals Saturation FSS | * * * * * * SCH 5-DIGIT 12345 FSSH.
ECR—Standard Mail basic | * * * * * * ECRLOT**C-001 * * * * * * ECRLOT 1234A**C-001.
ECR—Standard Mail high density or high density plus | * * * * * * ECRWSH**C-001.
ECR—High Density Plus FSS | * * * * * * SCH 5-DIGIT 12345 FSSA.
ECR—Standard Mail saturation | * * * * * * ECRWSS**C-001.
Carrier Route—Bound Printed Matter | * * * * * * CAR-RT SORT**C-001.
Carrier Route FSS—Bound Printed Matter | * * * * * * SCH 5-DIGIT 12345 FSSC.
5-Digit | * * * * * * 5-DIGIT 12345.
5-Digit (Nonautomation FSS flats) | * * * * * * SCH 5-DIGIT 12345 FSSE.
5-Digit Scheme (Automation flats) | * * * * * * SCH 5-DIGIT 12345.
5-Digit Scheme (Automation FSS flats) | * * * * * * SCH 5-DIGIT 12345 FSSD.
3-Digit | * * * * * * 3-DIGIT 771.
3-Digit (Nonautomation FSS flats) | * * * * * * SCH 5-DIGIT 12345 FSSG.
3-Digit Scheme (Automation flats) | * * * * * * SCH 3-DIGIT 006.
3-Digit Scheme (Automation FSS flats) | * * * * * * SCH 5-Digit 12345 FSSF.
ADC (3-digit ZIP Code prefix) | * * * * * * ALL FOR ADC 105.
ADC (5-digit ZIP Code) | * * * * * * ALL FOR ADC 90197.
Mixed ADC (3-digit ZIP Code prefix) | * * * * * * MIXED ADC 640.
Mixed ADC (5-digit ZIP Code) | * * * * * * MIXED ADC 60821.
Optional tray level piece ID for automation letters:
AADC (3-digit ZIP Code prefix) | * * * * * * ALL FOR AADC 050.
AADC (5-digit ZIP Code) | * * * * * * ALL FOR AADC 07099.
Mixed AADC (3-digit ZIP Code prefix) | * * * * * * MIXED AADC 870.
Mixed AADC (5-digit ZIP Code) | * * * * * * MIXED AADC 75197.
Additional required human-readable text for use with combined mailings of Standard Mail and Periodical flats:
5-Digit Scheme (and other sortation levels as appropriate) | * * * * * * SCH 5-DIGIT 12345 MIX COMAIL.
5-Digit Scheme (Automation FSS flats) | * * * * * * SCH 5-DIGIT 12345 FSSD COMAIL.
5-Digit (Nonautomation FSS flats) | * * * * * * SCH 5-DIGIT 12345 FSSE COMAIL.
3-Digit (Automation FSS flats) | * * * * * * SCH 5-DIGIT 12345 FSSF COMAIL.
3-Digit (Nonautomation FSS flats) | * * * * * * SCH 5-DIGIT 12345 FSSG COMAIL.
Carrier Route high density plus (FSS flats) | * * * * * * SCH 5-DIGIT 12345 FSSA COMAIL.
Carrier Route high density (FSS flats) | * * * * * * SCH 5-DIGIT 12345 FSSB COMAIL.
Carrier Route basic | * * * * * * SCH 5-DIGIT 12345 FSSC COMAIL.

* * * * *

7.1.8 Required OEL Use in Combined Mailings of Standard Mail and Periodicals Flats

Mailers authorized to combine Standard Mail flats and Periodicals flats, under 705.15.0, must apply an OEL identifying the presort level of the bundle and other applicable information as specified in 7.1 to each mailpiece. The following additional standards also apply:

* * * * *

[Revise item c to read as follows.]

c. When combined mailings of Standard Mail and Periodicals flats are prepared to FSS zones under 705.15.1.11, each mailpiece must bear an optional endorsement line in human-readable text, including the correct ZIP code listed in Column B of L006, as described in Exhibit 7.1.1.

* * * * *

We will publish an appropriate amendment to 39 CFR part 111 to reflect these changes if our proposal is adopted.

* * * * *

Stanley F. Mires,
Attorney, Federal Compliance.

[FR Doc. 2016-24710 Filed 10-14-16; 8:45 am]

BILLING CODE P